DEPARTMENT OF ENERGY

Federal Energy Regulatory Commission

[Project No. 13346-014]

Notice of Application for Surrender of License, Soliciting Comments, Motions To Intervene, and Protests: PayneBridge, LLC

Take notice that the following hydroelectric application has been filed with the Commission and is available for public inspection:

a. Type of Proceeding: Application for surrender of license.

b. Project No.: 13346-014.

c. Date Filed: August 6, 2018.

d. Licensee: PayneBridge, LLC.

e. Name of Project: Williams Dam Project.

f. Location: The project is located on the White River in the Town of Bedford, Lawrence County, Indiana.

g. Filed Pursuant to: Federal Power Act, 16 U.S.C. 791a-825r.

h. Licensee Contact: Mr. Erik Steimle, Rye Development, 745 Atlantic Avenue, 8th Floor, Boston, MA 02111, (503) 998-2030, erik@ryedevelopment.com.

i. FERC Contact: Ms. Rebecca Martin, (202) 502-6012, Rebecca.martin@ferc.gov

j. Deadline for filing comments, interventions, and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-13346-014.

k. Description of Project Facilities: The project includes the existing Williams Dam, which is currently owned and operated by the Indiana Department of Natural Resources. The dam is a 294-foot-long, 21.3-foot-high concrete structure with a full-length, uncontrolled spillway at a crest elevation of 472.2 feet North American Vertical Datum of 1988 (NAVD 88). The dam impounds a reservoir with a surface area of 553 acres and a gross storage capacity of 5,720 acre-feet. Integral with the dam is an abandoned 107-foot-long, 47-foot-wide concrete powerhouse that contains four inoperable, vertical-shaft turbines. An existing concrete intake bay structure for the powerhouse contains four inoperable 10-foot-wide by 14-foot-high vertical slide intake gates with the upstream water level maintained by bulkheads bolted to the intake divide walls. Licensed but unconstructed facilities include: A refurbished powerhouse expanded to 107 feet long by 81 feet wide to accommodate a new trashrack and draft tube extension; a 126-foot-long, 44-foot-wide concrete and masonry superstructure constructed on top of the refurbished powerhouse substructure; a new 21.5-foot-high, 100-foot-wide steel trashrack with 3-inch clear bar spacing; new vertical Kaplan turbines that will each be coupled to a 1-MW generator unit for a total installed capacity of 4.0 MW; a new underground 4.16-kilovolt (kV) feeder line to connect the powerhouse to a new 40- by 40-foot substation; a new parking lot located adjacent to the powerhouse, and appurtenant facilities; and, a new 175-foot-long, three-phase 12.5-kV overhead primary transmission line.

l. Description of Request: The licensee proposes to surrender the project because it has been unable to secure a power purchase agreement that would allow the project to be constructed. No construction has occurred at the project since licensing. The project area would remain in its pre-licensed, pre-construction condition. No ground disturbing activities would occur as a result of this surrender.

m. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments—Federal, state, and local agencies are invited to file comments on the described proceeding. If any agency does not file comments within the time specified for filing comments, it will be presumed to have no comments.

Dated: September 13, 2018.
Kimberly D. Bose,
Secretary.

[FR Doc. 2018-20618 Filed 9-20-18; 8:45 am]

BILLING CODE 6717-01-P